DEPARTMENT OF THE INTERIOR

National Park Service

National Register of Historic Places; Notification of Pending Nominations

Nominations for the following properties being considered for listing in the National Register were received by the National Park Service before December 7, 2002. Pursuant to section 60.13 of 36 CFR part 60 written comments concerning the significance of these properties under the National Register criteria for evaluation may be forwarded by United States Postal Service, to the National Register Historic Places, National Park Service, 1849 C St., NW., 2280, Washington, DC 20240; by all other carriers, National Register of Historic Places, National Park Service, 1201 Eye St., NW., 8th floor, Washington DC 20005; or by fax, 202-343-1836. Written or faxed comments should be submitted by January 7, 2003.

Beth L. Savage,
Acting Keeper of the National Register of Historic Places.

CONNECTICUT

Litchfield County

Water Street Historic District, Roughly along Water St., from Church St. to Prospect St., Torrington, 02001698.

INDIANA

Wayne County

Reeveston Place Historic District, Bounded by South B, South E, South 16th and S. 23rd Sts., Richmond, 02001699.

KANSAS

Atchison County

Campbell Chapel AME Church, 715 Atchison St., Atchison, 02001701.

Hamilton County

Menno Community Hall, (New Deal-Era Resources of Kansas MPS) NE4, NE4, NE4, NE4, S. 15, T. 26S, R. 49W, Kendall, 02001700.

Sedgwick County

International Harvester Building, 355 N. Rock Island Ave/803-811 E. Third St., Wichita, 02001702.

MINNESOTA

Cass County

Conservation Building (Federal Relief Construction in Minnesota MPS AD), 205 Minnesota Ave., Walker, 02001706.

Otter Tail County

Craigie Flour Mill Historical Marker (Federal Relief Construction in Minnesota MPS AD), MN 78 at Balmoral Cr., Otter Tail Township, 02001704.

Scott County

Maka Yusota, Address Restricted, Savage, 02001703.

Stevens County

West Central School of Agriculture and Experiment Station Historic District, 600 E. Fourth St., Morris, 02001707.

Wabasha County

Walnut Street Bridge, W end of Walnut St., Mazeppa, 02001705.

MISSOURI

St. Louis Independent City

DeHodiamont, Emmanuel, House, 951 Maple Place, St. Louis (Independent City), 02001708.

NEW YORK

Greene County

Strong, Elijah, House, 12278 NY 23, Ashland, 02001711.

Rensselaer County

Fire Alarm, Telegraph and Police Signaling Building, 67 State St., Troy, 02001714.

Sullivan County

German Presbyterian Church and Hortonville Cemetery, CR 121 and CR 131, Hortonville, 02001712.

Tioga County

Tioga Centre General Store, 3019 NY 17C, Tioga Center, 02001709.

NORTH CAROLINA

Bertie County

Elmwood, 637 Avoca Farm Rd., Merry Hill, 02001710.

Duplin County

Wakefield Dairy Complex, (Wake County MPS), W side Falls of Neuse Rd., 1.2 mi. N of Neuse R., Wake Forest, 02001719.

Lincoln County

South Aspen Street Historic District, 500-1000 blks. S. Aspen St., 114-130 E. Rhodes St., and 624-636 W. Park Dr.,

Lincolnton, 02001713.

West Main Street Historic District,

200-300 W. Main St. and 114 N. High St., Lincolnton, 02001716.

Mecklenburg County

Alexander, William T., House, (Mecklenburg County MPS), Mallard Cr. Church Rd., 1 mi W. of Jct. with U.S. 29, Charlotte, 02001718.

Perquimans County

Winfall Historic District, Roughly along Main St. and Wiggins Rd., Winfall, 02001715.

Rowan County

Barber Farm, 225 Redmon Rd., Cleveland, 02001717.

PUERTO RICO

Jayuya Municipality

La Piedra Escrita, (Prehistoric Rock Art of Puerto Rico MPS), Address Restricted, Jayuya City, Coabey Ward, Boqueron S, 02001720.

A request for removal has been made for the following resources:

MINNESOTA

Benton County

Ronneby Charcoal Kiln, (Benton County MRA), Off MN 23, Ronneby, 82002934.

Le Sueur County

Patten, David, Farmhouse, (Ottawa Stone Buildings TR), Liberty St., Ottawa, 82004706.

[FR Doc. 02-32172 Filed 12-20-02; 8:45 am]

BILLING CODE 4310-70-P